ENVIRONMENTAL PROTECTION AGENCY

[ER-FRL-9004-6]

Environmental Impacts Statements; Notice of Availability

AGENCY: Office of Federal Activities, General Information (202) 564-7146 or http://www.epa.gov/compliance/nepa/

Weekly receipt of Environmental Impact Statements Filed 08/13/2012 Through 08/17/2012 Pursuant to 40 CFR 1506.9.

Notice

Section 309(a) of the Clean Air Act requires that EPA make public its comments on EISs issued by other Federal agencies. EPA's comment letters on EISs are available at: http://www.epa.gov/compliance/nepa/eisdata.html.

SUPPLEMENTARY INFORMATION: Starting October 1, 2012, EPA will not accept paper copies or CDs of EISs for filing purposes; all submissions on or after October 1, 2012 must be made through e-NEPA. While this system eliminates the need to submit paper or CD copies to EPA to meet filing requirements, electronic submission does not change requirements for distribution of EISs for public review and comment. To begin using e-NEPA, you must first register with EPA's electronic reporting site— https://cdx.epa.gov/epa_home.asp.

EIS No. 20120268, Draft EIS, USFWS, WV, Proposed Issuance of an Incidental Take Permit for the Beech Ridge Energy Wind Project Habitat Conservation Plan, Implementation, Greenbrier and Nicholas Counties, WV, Comment Period Ends: 10/23/2012, Contact: Laura Hill 304-636-6586, ext 18.

EIS No. 20120269, Final EIS, FHWA, CA, State Route 91 Corridor Improvement Project, Widening SR 91 from SR 91/State Route 241 Interchange in Orange County to Pierce Street in Riverside County, Orange and Riverside Counties, CA, Review Period Ends: 09/24/2012, Contact: Aaron Burton 909-388-2841.

EIS No. 20120270, Final Supplement, FHWA, MN, Trunk Highway 60 between Windom and St. James, Implementation of Transportation System Improvements, Funding, USACE Section 404 Permit, Cottonwood and Watonwan Counties, MN, Review Period Ends: 09/24/2012, Contact: Philip Forst 651-291-6110.

EIS No. 20120271, Final EIS, USFWS, NV, Sheldon National Wildlife Refuge Project, Draft Resource Conservation Plan, Implementation, Humboldt and Washoe Counties, NV and Lake County, OR, Review Period Ends: 09/24/2012, Contact: Aaron Collins 541-947-3315, ext. 223.

EIS No. 20120272, Final EIS, USN, CA, Marine Corps Base Camp Pendleton Project, Base wide Water Infrastructure, Construction and Operation, San Diego County, CA, Review Period Ends: 09/24/2012, Contact: Jesse Martinez 619-532-3844.

EIS No. 20120273, Final EIS, FHWA, CO, Breckenridge Ski Resort Peak 6 Project, Implementation, White River National Forest, Summit County, CO, Review Period Ends: 09/24/2012, Contact: Joe Foreman 970-262-3443.

EIS No. 20120274, Draft EIS, USFS, AZ, Prescott National Forest Land and Resource Management Plan, Implementation, Yavapai and Coconino Counties, AZ, Comment Period Ends: 10/08/2012, Contact: Mary C. Rasmussen 928-443-8265.

EIS No. 20120275, Draft EIS, USFS, MT, Wild Cramer Forest Health and Fuels Reduction Project, Swan Lake Ranger District, Flathead National Forest, Flathead County, MT, Comment Period Ends: 10/08/2012, Contact: Richard Kehr 406-837-7500.

Amended Notices

EIS No. 20120201, Draft Supplement, USACE, IN, Indianapolis North Flood Damage Reduction, Modifications to Project Features and Realignment of the South Warfleigh Section, Marion County, IN, Comment Period Ends: 08/31/2012, Contact: Michael Turner 502-315-6900.

Revision to FR Notice Published 07/20/2012; Extending Comment Period from 08/31/2012 to 09/28/2012.

EIS No. 20120227, Draft EIS, USMC, GA, Proposed Modernization and Expansion of Townsend Bombing Range, Acquiring Additional Property and Constructing Infrastructure to Allow the Use of Precision-Guided Munitions, McIntosh and Long Counties, GA, Comment Period Ends: 09/27/2012, Contact: Veronda Johnson 571-256-2783.

Revision to FR Notice Published 7/13/2012; Extending Review Period from 8/27/12 to 09/27/2012.

EIS No. 20120247, Final EIS, USACE, 00, Mississippi River Gulf Outlet Ecosystem Restoration, To Develop a Comprehensive Ecosystem Restoration Plan To Restore the Lake Borgne Ecosystems, LA and MS, Review Period Ends: 09/06/2012, Contact: Tammy Gilmore 504-862-1002.

Revision to FR Notice Published 7/27/2012; Extending Review Period from 08/27/2012 to 09/06/2012.

Dated: August 21, 2012.
Cliff Rader,
Director, NEPA Compliance Division, Office of Federal Activities.

[FR Doc. 2012-20913 Filed 8-23-12; 8:45 am]

BILLING CODE 6560-50-P